DEPARTMENT OF HOUSING AND URBAN DEVELOPMENT

[Docket No. FR-5280-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, DAIM-ZS, Room 8536, 2511 Jefferson Davis Hwy., Arlington, VA 22202; (703) 601-2545; (These are not toll-free numbers).

Dated: November 12, 2009.
Mark R. Johnston,
Deputy Assistant Secretary for Special Needs.

TITLE V, FEDERAL SURPLUS PROPERTY PROGRAM FEDERAL REGISTER REPORT FOR 11/20/2009

Suitable/Available Properties

Building

New York

Bldg. 1230

U.S. Army Garrison

Orange NY 10996

Landholding Agency: Army

Property Number: 21200940014

Status: Unutilized

Comments: 4538 sq. ft., possible asbestos/lead paint, most recent use—clubhouse, off-site use only

Land

Tennessee

Parcel No. 6

Fort Campbell

Hwy 79

Montgomery TN 42223

Landholding Agency: Army

Property Number: 21200940013

Status: Excess

Comments: 4.55 acres, wooded w/dirt road/fire break

Unsuitable Properties

Building

Alabama

11 Bldgs.

Redstone Arsenal

Madison AL 35898

Landholding Agency: Army

Property Number: 21200940015

Status: Unutilized

Directions: 99, 119, 1421, 1422, 3496, 3614, 3648, 3768, 3772, 3773, 3774

Reasons: Extensive deterioration; Secured Area

8 Bldgs.

Redstone Arsenal

Madison AL 35898

Landholding Agency: Army

Property Number: 21200940016

Status: Unutilized

Directions: 4501, 5132, 7108, 7288, 7380, 7523, 7524, 7525

Reasons: Extensive deterioration; Secured Area

4 Bldgs.

Redstone Arsenal

Madison AL 35898

Landholding Agency: Army

Property Number: 21200940017

Status: Unutilized

Directions: 7554, 7567, 7592, 7907

Reasons: Secured Area; Extensive deterioration

Alaska

7 Bldgs.

Fort Richardson

Anchorage AK 99505

Landholding Agency: Army

Property Number: 21200940018

Status: Unutilized

Directions: 992, 992C1, 992C2, 39002, 39199, 39228, 39600

Reasons: Extensive deterioration

5 Bldgs.

Fort Richardson

Anchorage AK 99505

Landholding Agency: Army

Property Number: 21200940019

Status: Unutilized

Directions: 57112, 57451, 57452, 57453, 57458

Reasons: Extensive deterioration

6 Bldgs.

Fort Richardson

Anchorage AK 99505

Landholding Agency: Army

Property Number: 21200940020

Status: Unutilized

Directions: RANMS, RANNL, RANOS, RANPS, RANZS, WOLT2

Reasons: Extensive deterioration

Bldg. XTENA

Fort Greely

Fort Greely AK 99731

Landholding Agency: Army

Property Number: 21200940021

Status: Unutilized

Reasons: Within 2000 ft. of flammable or explosive material; Secured Area; Extensive deterioration

California

Bldg. 00053

Moffett Community Housing

Santa Clara CA 94035

Landholding Agency: Army

Property Number: 21200940022

Status: Unutilized

Reasons: Extensive deterioration

Bldg. 00005

Los Alamitos Joint Force

Training Base

Orange CA 90720

Landholding Agency: Army

Property Number: 21200940023

Status: Excess

Reasons: Extensive deterioration

8 Bldgs.

Fort Hunter Liggett

Monterey CA 93928

Landholding Agency: Army

Property Number: 21200940024

Status: Unutilized

Directions: 410, 413, 414, 415, 416, 417, 419, 420

Reasons: Extensive deterioration

Georgia

7 Bldgs.

Fort Stewart

Liberty GA 31314

Landholding Agency: Army

Property Number: 21200940025

Status: Excess

Directions: 918, 1076, 1103, 1268, 7803, 7804, 7805

Reasons: Extensive deterioration

Bldgs. 240, 701, 719

Hunter Army Airfield

Savannah GA 31409

Landholding Agency: Army

Property Number: 21200940026

Status: Excess

Reasons: Extensive deterioration

6 Bldgs.

Fort Benning

Ft. Benning GA 31905

Landholding Agency: Army

Property Number: 21200940027

Status: Unutilized

Directions: 1189, 1199, 2603, 2605, 8621, 8622

Reasons: Secured Area

Hawaii

Bldgs. 00039, 01650

Fort Shafter

Honolulu HI 96858

Landholding Agency: Army

Property Number: 21200940039

Status: Unutilized

Reasons: Extensive deterioration

Bldg. 01007

Wheeler Army Airfield

Honolulu HI 96786

Landholding Agency: Army

Property Number: 21200940040

Status: Unutilized

Reasons: Extensive deterioration

Kansas

Bldgs. 2351, 6420, 8999

Fort Riley

Geary KS 66441

Landholding Agency: Army

Property Number: 21200940041

Status: Unutilized

Reasons: Extensive deterioration

Kentucky

4 Bldgs.

Fort Knox

Ft. Knox KY 40121

Landholding Agency: Army

Property Number: 21200940042

Status: Unutilized

Directions: 1172, 6898, 7737, 7739

Reasons: Extensive deterioration

Maryland

7 Bldgs.

Aberdeen Proving Ground

Harford MD 21005

Landholding Agency: Army

Property Number: 21200940028

Status: Unutilized

Directions: 4210, 4211, 4212, 4213, 4302, 4303, 5650

Reasons: Secured Area

9 Bldgs.

Aberdeen Proving Grounds

Harford MD 21005

Landholding Agency: Army

Property Number: 21200940029

Status: Unutilized

Directions: E3220, E4405, E4410, E4430, E4435, E4445, E4455, E4460, E4475

Reasons: Secured Area

9 Bldgs.

Aberdeen Proving Ground

Harford MD 21005

Landholding Agency: Army

Property Number: 21200940030

Status: Unutilized

Directions: E5641, E5642, E5684, E5685, E5686, E5687, E5910, E5911, E5912

Reasons: Secured Area

Bldgs. 718, 917

Fort Detrick

Frederick MD 21702

Landholding Agency: Army

Property Number: 21200940043

Status: Unutilized

Reasons: Secured Area

Missouri

13 Bldgs.

Fort Leonard Wood

Pulaski MO 65473

Landholding Agency: Army

Property Number: 21200940044

Status: Unutilized

Directions: 401, 761, 762, 766, 790, 791, 792, 793, 794, 795, 796, 797, 798

Reasons: Secured Area

7 Bldgs.

Fort Leonard Wood

Pulaski MO 65473

Landholding Agency: Army

Property Number: 21200940045

Status: Unutilized

Directions: 851, 852, 853, 854, 857, 859, 2305

Reasons: Secured Area

9 Bldgs.

Fort Leonard Wood

Pulaski MO 65473

Landholding Agency: Army

Property Number: 21200940046

Status: Unutilized

Directions: 9004, 9005, 9007, 9009, 9011, 9013, 9015, 9017, 9029

Reasons: Secured Area

9 Bldgs.

Fort Leonard Wood

Pulaski MO 65473

Landholding Agency: Army

Property Number: 21200940047

Status: Unutilized

Directions: 9031, 9033, 9035, 9037, 9039, 9041, 9043, 9045, 9047

Reasons: Secured Area

6 Bldgs.

Fort Leonard Wood

Pulaski MO 65473

Landholding Agency: Army

Property Number: 21200940048

Status: Unutilized

Directions: 9057, 9059, 9061, 9063, 9071, 12315

Reasons: Secured Area

New Jersey

7 Bldgs.

Picatinny Arsenal

Dover NJ 07806

Landholding Agency: Army

Property Number: 21200940031

Status: Unutilized

Directions: 80, 80C, 81, 82, 83, 948, 949

Reasons: Within 2000 ft. of flammable or explosive material; Secured Area

5 Bldgs.

Picatinny Arsenal

Dover NJ 07806

Landholding Agency: Army

Property Number: 21200940032

Status: Unutilized

Directions: 3710, 3711, 3712, 3713, 3714

Reasons: Secured Area; Within 2000 ft. of flammable or explosive material

New York

14 Bldgs.

Fort Drum

Jefferson NY 13602

Landholding Agency: Army

Property Number: 21200940001

Status: Unutilized

Directions: 192, 401, 403, 404, 405, 406, 407, 408, 410, 411, 412, 416, 417, 418

Reasons: Extensive deterioration

5 Bldgs.

Fort Drum

Jefferson NY 13602

Landholding Agency: Army

Property Number: 21200940002

Status: Unutilized

Directions: 420, 421, 422, 423, 424

Reasons: Extensive deterioration

9 Bldgs.

Fort Drum

Jefferson NY 13602

Landholding Agency: Army

Property Number: 21200940003

Status: Unutilized

Directions: 440, 441, 442, 443, 444, 445, 446, 447, 448

Reasons: Extensive deterioration

7 Bldgs.

Fort Drum

Jefferson NY 13602

Landholding Agency: Army

Property Number: 21200940004

Status: Unutilized

Directions: 450, 451, 452, 453, 454, 456, 458

Reasons: Extensive deterioration

7 Bldgs.

Fort Drum

Jefferson NY 13602

Landholding Agency: Army

Property Number: 21200940005

Status: Unutilized

Directions: 470, 471, 472, 473, 474, 477, 478

Reasons: Extensive deterioration

11 Bldgs.

Fort Drum

Jefferson NY 13602

Landholding Agency: Army

Property Number: 21200940006

Status: Unutilized

Directions: 501, 503, 513, 514, 515, 521, 522, 523, 527, 528, 529

Reasons: Extensive deterioration

11 Bldgs.

Fort Drum

Jefferson NY 13602

Landholding Agency: Army

Property Number: 21200940007

Status: Unutilized

Directions: 532, 540, 541, 542, 543, 544, 545, 546, 547, 548, 549

Reasons: Extensive deterioration

6 Bldgs.

Fort Drum

Jefferson NY 13602

Landholding Agency: Army

Property Number: 21200940008

Status: Unutilized

Directions: 550, 551, 552, 553, 557, 558, 559

Reasons: Extensive deterioration

7 Bldgs.

Fort Drum

Jefferson NY 13602

Landholding Agency: Army

Property Number: 21200940009

Status: Unutilized

Directions: 560, 561, 562, 571, 572, 573, 574

Reasons: Extensive deterioration

6 Bldgs

Fort Drum

Jefferson NY 13602

Landholding Agency: Army

Property Number: 21200940010

Status: Unutilized

Directions: 1190, 1714, 10181, 10183, 10287, 11457

Reasons: Extensive deterioration

18 Bldgs.

Fort Drum

Jefferson NY 13602

Landholding Agency: Army

Property Number: 21200940011

Status: Unutilized

Directions: M425A, M425B, M426A, M426B, M427A, M427B, M430A, M430B, M431A, M431B, M432A, M432B, M433A, M433B, M434A, M434B, M435A, M435B

Reasons: Extensive deterioration

17 Bldgs.

Fort Drum

Jefferson NY 13602

Landholding Agency: Army

Property Number: 21200940012

Status: Unutilized

Directions: M449A, M455A, M457B, M459B, M460A, M460B, M461A, M461B, M462A, M462B, M463A, M463B, M464B, M465A, M475A, M476B, M479B

Reasons: Extensive deterioration

North Carolina

Bldgs. T3354, T3361

Fort Bragg

Camp Mackall NC 28373

Landholding Agency: Army

Property Number: 21200940033

Status: Unutilized

Reasons: Extensive deterioration; Secured Area

Oklahoma

7 Bldgs.

McAlester Army Ammo Plant

Pittsburg OK 74501

Landholding Agency: Army

Property Number: 21200940049

Status: Excess

Directions: 81, 82, 98, 213, 449, 628, 643

Reasons: Within 2000 ft. of flammable or explosive material; Secured Area

Pennsylvania

4 Bldgs.

Letterkenny Army Depot

Franklin PA 17201

Landholding Agency: Army

Property Number: 21200940034

Status: Unutilized

Directions: S3627, 03811, S4344, S5298

Reasons: Secured Area

Tennessee

Bldgs. ZZ001, ZZ002

Milan AAP

Gibson TN 38358

Landholding Agency: Army

Property Number: 21200940035

Status: Excess

Reasons: Within 2000 ft. of flammable or explosive material; Secured Area

Texas

Bldgs. 11284, 11304

Fort Bliss

El Paso TX 79916

Landholding Agency: Army

Property Number: 21200940036

Status: Unutilized

Reasons: Secured Area

Virginia

Bldgs. 1218, 1296

Fort A.P. Hill

Bowling Green VA 22427

Landholding Agency: Army

Property Number: 21200940037

Status: Unutilized

Reasons: Extensive deterioration

Bldgs. 1000, 2000, 2010

Radford AAP

Montgomery VA 24143

Landholding Agency: Army

Property Number: 21200940038

Status: Unutilized

Reasons: Secured Area; Within 2000 ft. of flammable or explosive material

[FR Doc. E9-27566 Filed 11-19-09; 8:45 am]

BILLING CODE 4210-67-P